DEPARTMENT OF THE TREASURY

United States Mint

Pricing for Comic Art 1 Oz. Silver Medal and 2.5 Oz. Silver Medal

AGENCY: United States Mint, Department of the Treasury.

ACTION: Notice.

The United States Mint is announcing pricing for the 2025 Comic Art Coin and Medal 1 oz. and 2.5 oz. silver medals.

SKU # | Product name | Price
25DSG | Comic Art Half Oz. 24K Gold Proof Coin—Superman | Per Grid.
25DSS1 | Comic Art One Oz. Silver Medal—Superman | $135.00.
25DSS2 | Comic Art 2.5 Ounce Silver Medal—Superman | $275.00.

FOR FURTHER INFORMATION CONTACT: Rosa Williams, United States Mint; 801 9th Street NW, Washington, DC 20220; or call (202) 354-7594.

Authority: 31 U.S.C. 5111(a)(2).

Eric Anderson,
Executive Secretary, United States Mint.

[FR Doc. 2025-12389 Filed 7-1-25; 8:45 am]

BILLING CODE 4810-37-P